ENVIRONMENTAL PROTECTION AGENCY

[EPA-HQ-OPPT-2023-0520; FRL-11518-02-OCSPP]

Final Modifications to the Safer Choice Standard and a Provision for a Safer Choice Cleaning Service Certification Program; Notice of Availability

AGENCY: Environmental Protection Agency (EPA).

ACTION: Notice.

SUMMARY: The Environmental Protection Agency (EPA or Agency) is announcing the availability of the final, updated Safer Choice and Design for the Environment (DfE) Standard (“the Standard”). This update includes a name change to the title of the Standard, a revision to the packaging criteria, a new certification for cleaning service providers, a new provision allowing for preterm partnership termination under exceptional circumstances, and the addition of several product and functional use class requirements. Safer Choice helps consumers, businesses, and purchasers find products that perform and contain ingredients that are safer for human health and the environment. DfE is a similar program used by EPA for the purpose of helping consumers and commercial buyers identify antimicrobial products that meet the health and safety standards of the normal pesticide registration process required by the Federal Insecticide, Fungicide and Rodenticide Act (FIFRA) as well as other EPA DfE criteria (as described in the Standard).

DATES: The Standard is effective August 8, 2024.

ADDRESSES: The docket for this action, identified by docket identification (ID) number EPA-HQ-OPPT-2023-0520, is available online at https://www.regulations.gov. Additional instructions for visiting the docket, along with more information about dockets generally, is available at https://www.epa.gov/dockets.

FOR FURTHER INFORMATION CONTACT: Melanie Adams, Safer Choice Program (7406M), Office of Chemical Safety and Pollution Prevention, Environmental Protection Agency, 1201 Constitution Ave. NW, Washington DC 20004; telephone number: (202) 564-1843; email address: adams.melanie@epa.gov.

SUPPLEMENTARY INFORMATION:

I. Executive Summary

A. Does this action apply to me?

You may be affected by this action if you participate in or apply for certification under the Safer Choice or DfE programs and use or hope to use the programs' label or logo, respectively, on your products. Also potentially affected are consumers, institutional purchasers, retailers, and distributors of Safer Choice- or DfE-certified products who use the label or logo to identify products that have met the Agency's safer-product criteria. The following list of North American Industrial Classification System (NAICS) codes is not intended to be exhaustive, but rather provides a guide to help readers determine whether this document applies to them. Affected entities may include:

• Other Basic Inorganic Chemical Manufacturing (NAICS code 325180);

• All Other Basic Organic Chemical Manufacturing (Primary) (NAICS code 325199);

• Pesticide and Other Agricultural Chemical Manufacturing (NAICS code 325320);

• Paint and Coating Manufacturing (NAICS code 325510);

• Adhesive Manufacturing (NAICS code 325520);

• Soap and Other Detergent Manufacturing (NAICS code 325611);

• Polish and Other Sanitation Good Manufacturing (NAICS code 325612);

• Surface Active Agent Manufacturing (Primary) (NAICS code 325613);

• Toilet Preparation Manufacturing (NAICS code 325620);

• Photographic Film, Paper, Plate, and Chemical Manufacturing (NAICS code 325992);

• All Other Miscellaneous Chemical Product and Preparation Manufacturing (NAICS code 325998);

• Service Establishment Equipment and Supplies Merchant Wholesalers (Primary) (NAICS code 423850);

• Other Chemical and Allied Products Merchant Wholesalers (Primary) (NAICS code 424690);

• Supermarkets and Other Grocery (except Convenience) Stores (Primary) (NAICS code 445110);

• All Other Specialty Food Stores (NAICS code 445299);

• Pharmacies and Drug Stores (NAICS code 446110);

• Office Supplies and Stationery Stores (NAICS code 453210);

• All Other Miscellaneous Store Retailers (except Tobacco Stores) (Primary) (NAICS code 453998);

• Electronic Shopping and Mail-Order Houses (NAICS code 454110);

• Research and Development in Biotechnology (except Nanobiotechnology) (Primary) (NAICS code 541714);

• Facilities Support Services (NAICS code 561210). Janitorial Services (NAICS code 561720);

• Carpet and Upholstery Cleaning Services (NAICS code 561740);

• Elementary and Secondary Schools (NAICS code 611110);

• Colleges, Universities, and Professional Schools (NAICS code 611310);

• Promoters of Performing Arts, Sports, and Similar Events with Facilities (NAICS code 711310);

• Drycleaning and Laundry Services (NAICS code 8123);

• Civic and Social Organizations (Primary) (NAICS code 813410);

• Business Associations (Primary) (NAICS code 813910);

• Other General Government Support (NAICS code 921190); and

• Administration of Air and Water Resource and Solid Waste Management Programs (Primary) (NAICS code 924110).

If you have any questions regarding the applicability of this proposed action to a particular entity, consult the technical information contact listed under FOR FURTHER INFORMATION CONTACT.

B. What action is the Agency taking?

In 2023, EPA announced the availability of and sought public comment on several proposed changes to the existing Standard (88 FR 78017, November 14, 2023 (FRL-11518-01)) and held a public webinar on December 19, 2023, to present the Agency's proposed plans. EPA received 90 comments, representing 131 organizations or individuals. The Response to Comments document, which is available in the docket, is a compilation of the public comments received and EPA's responses. EPA's responses do not address each comment individually. EPA considered each comment and organized responses by section of the Standard.

After considering the public comments, EPA is issuing the final, updated Standard, which is available in the docket and on the Safer Choice website at https://www.epa.gov/saferchoice/standard. Revisions to the Standard serve, in part, to add clarity and transparency. Notable changes include an update to packaging requirements to respond to an increased stakeholder interest in more sustainable packaging and a certification for cleaning service providers that use Safer Choice-certified products for cleaning and DfE-certified products for disinfecting.

II. Background

A. What is the Safer Choice program?

As part of its environmental mission, the Safer Choice program partners with businesses to help consumers and commercial buyers identify products with safer chemical ingredients, without sacrificing quality or performance. The Safer Choice program certifies products containing ingredients that have met the program's specific and rigorous human health and environmental toxicological criteria. The Safer Choice program allows companies to use its label on certified products that contain safer ingredients and perform, as determined by expert evaluation. The Safer Choice program certification represents a high level of achievement in formulating products that are safer for people and the environment. For more information on the Safer Choice program, please see: https://www.epa.gov/saferchoice.

B. What is the DfE program?

The DfE program is a similar program currently used by EPA for the purpose of helping consumers and commercial buyers identify antimicrobial products that meet the health and safety standards of the normal pesticide registration process required by FIFRA as well as meeting the DfE certification criteria (as described in the Standard). For more information on the DfE program, please see: https://www.epa.gov/pesticide-labels/learn-about-design-environment-dfe-certification.

Authority: 15 U.S.C. 2601 et seq.

Dated: July 31, 2024.
Michal Freedhoff,
Assistant Administrator, Office of Chemical Safety and Pollution Prevention.

[FR Doc. 2024-17606 Filed 8-7-24; 8:45 am]

BILLING CODE 6560-50-P